COMMISSION ON CIVIL RIGHTS

Notice of Public Meeting of the District of Columbia Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the District of Columbia Advisory Committee (Committee) to the U.S. Commission on Civil Rights will hold project planning meetings via WebEx on the below dates and times. The purpose of these meetings is to plan and discuss the Committee's civil rights project.

DATES:

• Tuesday, October 18, at 12:00 p.m. ET

• Tuesday, November 15, at 12:00 p.m. ET

• Tuesday, December 20, at 12:00 p.m. ET

Each planning meeting will last for approximately one hour.

ADDRESSES:

Meeting Link (Audio/Visual): https://www.zoomgov.com/j/1616545271.

Telephone (Audio Only): Dial 833-568-8864 USA Toll Free; Meeting ID: 161 654 5271.

FOR FURTHER INFORMATION CONTACT: Ivy Davis, DFO, at ero@usccr.gov or 202-539-8468.

SUPPLEMENTARY INFORMATION: Members of the public can listen to these discussions. Committee meetings are available to the public through the above call-in number. Any interested member of the public may call this number and listen to the meeting. An open comment period will be provided to allow members of the public to make a statement as time allows. Callers can expect to incur regular charges for calls they initiate over wireless lines, according to their wireless plan. The Commission will not refund any incurred charges. Callers will incur no charge for calls they initiate over land-line connections to the toll-free telephone number. Individuals who are deaf, deafblind and hard of hearing may follow the proceedings by first calling the Federal Relay Service at 800-877-8339 and providing the Service with the conference call number and conference ID number.

Members of the public are also entitled to submit written comments via email. The comments must be received in the regional office within 30 days following the meeting. Written comments may be emailed. The email subject line should state: Atten: DC and sent to this email address: ero@usccr.gov. Persons who desire additional information may contact the Eastern Regional Office at ero@usccr.gov.

Records generated from this meeting may be inspected and reproduced at the Eastern Regional Programs, as they become available, both before and after the meeting. Records of the meeting will be available via www.facadatabase.gov under the Commission on Civil Rights, District of Columbia Advisory Committee link. Persons interested in the work of this Committee are directed to the Commission's website, http://www.usccr.gov, or may contact the Eastern Regional Office at the above email address.

Agenda

I. Roll Call

II. Welcome

III. Project Planning

IV. Other Business

V. Next Meeting

VI. Public Comments

VII. Adjourn

Dated: October 27, 2022.
David Mussatt,
Supervisory Chief, Regional Programs Unit.

[FR Doc. 2022-23729 Filed 10-31-22; 8:45 am]

BILLING CODE P